ENVIRONMENTAL PROTECTION AGENCY

[EPA-HQ-OECA-2014-0098; FRL-9990-65-OEI]

Information Collection Request Submitted to OMB for Review and Approval; Comment Request; NESHAP for Nine Metal Fabrication and Finishing Sources (Renewal)

AGENCY: Environmental Protection Agency (EPA).

ACTION: Notice.

SUMMARY: The Environmental Protection Agency (EPA) has submitted an information collection request (ICR), NESHAP for Nine Metal Fabrication and Finishing Sources (EPA ICR Number 2298.05, OMB Control Number 2060-0622), to the Office of Management and Budget (OMB) for review and approval in accordance with the Paperwork Reduction Act. This is a proposed extension of the ICR, which is currently approved through March 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 17, 2019.

ADDRESSES: Submit your comments, referencing Docket ID Number EPA-HQ-OECA-2014-0098, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP), for Nine Metal Fabrication and Finishing Area Sources (40 CFR part 63, subpart XXXXXX) apply to owners or operators of any existing or new metal fabrication and finishing facility that is an area source of hazardous air pollutant (HAP) emissions and uses or has the potential to emit metal fabrication or finishing metal HAP (MFHAP), defined to be the compounds of cadmium, chromium, lead, manganese, and nickel, or any of these metals in the elemental form with the exception of lead. The affected sources consist of several types of metal fabrication and finishing processes, including any abrasive blasting, metalworking (which includes machining, and dry grinding and dry polishing with machines), spray painting, and welding operations. New facilities include those that commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP. This information is being collected to assure compliance with 40 CFR part 63, subpart XXXXXX.

Form Numbers: None.

Respondents/affected entities: Owners and operators of facilities in the nine metal fabrication and finishing source categories.

Respondent's obligation to respond: Mandatory (40 CFR part 63, subpart XXXXXX).

Estimated number of respondents: 5,800 (total).

Frequency of response: Initially, occasionally and annually.

Total estimated burden: 39,000 hours (per year). Burden is defined at 5 CFR 1320.3(b).

Total estimated cost: $4,440,000 (per year), which includes $0 for annualized capital/startup and/or operation & maintenance costs.

Changes in the Estimates: There is an adjustment increase in the labor hours and cost in this ICR compared to the previous ICR. This is due to the addition of burden hours to more accurately account for the time spent by existing facilities to re-familiarize themselves annually with the rule requirements.

Courtney Kerwin,
Director, Regulatory Support Division.

[FR Doc. 2019-05017 Filed 3-15-19; 8:45 am]

BILLING CODE 6560-50-P